DEPARTMENT OF TRANSPORTATION

Federal Aviation Administration

14 CFR Parts 27 and 29

[Docket No. FAA-2009-0660; Amdt. Nos. 27-47, 29-54]

RIN 2120-AJ52

Damage Tolerance and Fatigue Evaluation of Composite Rotorcraft Structures; OMB Approval of Information Collection

AGENCY: Federal Aviation Administration, DOT.

ACTION: Final rule; OMB approval of information collection.

SUMMARY: This document notifies the public of the Office of Management and Budget's (OMB's) approval of the information collection requirement contained in the FAA's final rule, “Damage Tolerance and Fatigue Evaluation of Composite Rotorcraft Structures,” which was published on December 1, 2011.

DATES: The rule published on December 1, 2011, and became effective on January 30, 2012. However, at the time of publication, the new information collection requirements imposed by 14 CFR 27.573 and 29.573 lacked OMB approval. This document announces receipt of OMB's June 28, 2012 approval.

FOR FURTHER INFORMATION CONTACT: For technical questions concerning this action, contact Sharon Y. Miles, Regulations and Policy Group, Rotorcraft Directorate, ASW-111, Federal Aviation Administration, 2601 Meacham Boulevard, Fort Worth, Texas 76137-0111; telephone (817) 222-5122; facsimile (817) 222-5961; email sharon.y.miles@faa.gov. For legal questions concerning this action, contact Theresa D. Dunn, Directorate Counsel, ASW-7G8, Federal Aviation Administration, 2601 Meacham Boulevard, Fort Worth, Texas 76137-0007, telephone (817) 222-5099; facsimile (817) 222-5945, email: theresa.dunn@faa.gov.

SUPPLEMENTARY INFORMATION: The final rule, “Damage Tolerance and Fatigue Evaluation of Composite Rotorcraft Structures,” published in the Federal Register (76 FR 74655) on December 1, 2011. In that rule, the FAA amended its regulations to require evaluation of fatigue and residual static strength of composite rotorcraft structures using a damage tolerance evaluation, or a fatigue evaluation if the applicant establishes that a damage tolerance evaluation is impractical.

In a correction document (77 FR 4890), published February 1, 2012, the FAA revised the DATES section of the final rule, noting that affected parties were not required to comply with the new information collection requirements in §§ 27.573 and 29.573 until OMB approved the FAA's request to collect the information. Sections 27.573 and 29.573 include new provisions requiring an applicant to submit damage tolerance and fatigue evaluation information for principal composite structural elements or components, detail design points, and fabrication techniques. OMB approval for the information collection requirement was pending at the time of §§ 27.573 and 29.573 publication.

Under the Paperwork Reduction Act, the FAA submitted the new information collection requirements for OMB review. OMB approved the collection on June 28, 2012, and assigned the information collection OMB Control Number 2120-0753, which expires on December 31, 2012.

This publication informs affected parties of the approval and announces that as of June 28, 2012, affected parties are required to comply with the new information collection requirements in §§ 27.573 and 29.573.

Issued in Washington, DC, on August 13, 2012.
Lirio Liu,
Acting Director, Office of Rulemaking.

[FR Doc. 2012-20685 Filed 8-21-12; 8:45 am]

BILLING CODE 4910-13-P